NUCLEAR REGULATORY COMMISSION

[Docket No. 40-6659]

Establishment of the U.S. Department of Energy as the Long-Term Custodian of the Shirley Basin South Uranium Mill Tailings Site in Shirley Basin, Wyoming and Termination of the Petrotomics Company Source Materials License for the Shirley Basin South Site

AGENCY: Nuclear Regulatory Commission.

ACTION: Notice of establishment of the U.S. Department of Energy as the long-term custodian of the Shirley Basin South uranium mill tailings site in Shirley Basin, Wyoming under the general license provisions of 10 CFR part 40.28, and termination of the Petrotomics Company specific Source Materials License SUA-551 for the Shirley Basin South site.

FOR FURTHER INFORMATION CONTACT: Rick Weller, Project Manager, Fuel Cycle Facilities Branch, Division of Fuel Cycle Safety and Safeguards, Office of Nuclear Material Safety and Safeguards, U.S. Nuclear Regulatory Commission, Washington, DC 20555-0001. Telephone: (301) 415-7287; fax number: (301) 415-5955; e-mail: rmw2@nrc.gov.

SUPPLEMENTARY INFORMATION:

I. Introduction

On March 25, 2005, the Petrotomics Company (Petrotomics) transferred ownership of the Shirley Basin South uranium mill tailings site in Shirley Basin, Wyoming to the U.S. Department of Energy (DOE), as required by 10 CFR part 40, appendix A, criterion 11, prior to termination of Petrotomics' specific license. Subsequently, by letter dated May 12, 2005, the DOE submitted the final Long-Term Surveillance Plan (LTSP) for the Shirley Basin South site for review by the U.S. Nuclear Regulatory Commission (NRC). A correction to one page of the LTSP was provided to the NRC in a DOE letter dated June 1, 2005. Based on the review of the LTSP, the NRC has determined that the LTSP satisfies the requirements in 10 CFR part 40, appendix A, criterion 12, and § 40.28 for the long-term surveillance of a tailings disposal site. Accordingly, notice is hereby given that the NRC has accepted the LTSP for the Shirley Basin South site. This acceptance establishes the DOE as the long-term custodian and caretaker of the Shirley Basin South site under the general license specified in 10 CFR 40.28. In a concurrent action, the NRC has terminated Petrotomics' specific Source Materials License SUA-551 for the Shirley Basin South site. These actions complete all requirements for closure of the Shirley Basin South site under the Uranium Mill Tailings Radiation Control Act of 1978, as amended. These actions do not require an environmental assessment as they are categorically excluded under 10 CFR 51.22(c)(11).

II. Further Information

The NRC has prepared correspondence which documents the actions that establish the DOE as the long-term custodian of the Shirley Basin South site under the general license specified in 10 CFR 40.28 and terminate Petrotomics' specific Source Materials License SUA-551 for the Shirley Basin South site. In accordance with 10 CFR 2.390 of the NRC's “Rules of Practice,” copies of this correspondence, as well as the Shirley Basin South LTSP submitted by DOE letters dated May 12 and June 1, 2005, are available electronically at the NRC's Electronic Reading Room at http://www.nrc.gov/reading-rm/adams.html. From this site, you can access the NRC's Agencywide Document Access and Management System (ADAMS), which provides text and image files of NRC's public documents. The ADAMS accession numbers for the documents related to this notice are listed below. If you do not have access to ADAMS or if there are problems in accessing the documents located in ADAMS, contact the NRC Public Document Room (PDR) Reference staff at 1-800-397-4209, 301-415-4737, or by e-mail to pdr@nrc.gov.

Documents Related to this Notice:

1. Letter dated May 12, 2005, from T. Pauling, DOE, to G. Janosko, NRC, submitting the final LTSP for the Shirley Basin South site. ML051370527.

2. Letter dated June 1, 2005, from T. Pauling, DOE, to G. Janosko, NRC, submitting a correction to one page of the final LTSP for the Shirley Basin South site. ML051610322.

3. Letter dated June 8, 2005, from G. Janosko, NRC, to T. Pauling, DOE, accepting the final LTSP for the Shirley Basin South site. ML051660316.

4. Letter dated June 8, 2005, from G. Janosko, NRC, to S. Pfaff, Petrotomics Company, terminating Petrotomics' specific Source Materials License SUA-551 for the Shirley Basin South site. ML051660331.

These documents may also be viewed electronically on the public computers located at the NRC's PDR, O 1 F21, One White Flint North, 11555 Rockville Pike, Rockville, MD 20852. The PDR reproduction contractor will copy documents for a fee.

Dated in Rockville, Maryland, this 17th day of June 2005.
For the Nuclear Regulatory Commission.
Richard Weller,
Senior Project Manager, Fuel Cycle Facilities Branch, Division of Fuel Cycle Safety and Safeguards, Office of Nuclear Material Safety and Safeguards.

[FR Doc. 05-12849 Filed 6-28-05; 8:45 am]

BILLING CODE 7590-01-P